DEPARTMENT OF THE TREASURY

Submission for OMB Review; Comment Request

ACTION: Notice; correction.

SUMMARY: The Department of the Treasury published a document in the Federal Register on July 28, 2010, inviting comments on collections of information submitted to the Office of Management and Budget (OMB) for review. This document contained incorrect references.

Correction

In the Federal Register of July 28, 2010, in FR Doc. 2010-18522, make the following corrections:

• Page 44308, in the third column, under OMB Number: 1545-0047, Estimated Total Burden Hours: replace “4,126,068” with “25,710,979”.

• page 44308, in the third column, under OMB Number: 1545-0092, Estimated Total Burden Hours: replace “27,478,960” with “375,066,475”.

• Page 44310, in the second column, under OMB Number: 1545-1668, Type of Review: replace “Extension without change” with “Revision”.

• Page 44310, in the second column, under OMB Number: 1545-1668, Estimated Total Burden Hours: replace “296,124” with “245,074”.

• Page 44311, in the first column, under OMB Number: 1545-2042, Type of Review: replace “Extension without change” with “Revision”.

• Page 44311, in the first column, under OMB Number: 1545-2042, Estimated Total Burden Hours: replace “2,025” with “2,635”.

Dated: August 6, 2010.
Dawn D. Wolfgang,
Treasury PRA Clearance Officer.

[FR Doc. 2010-19915 Filed 8-11-10; 8:45 am]

BILLING CODE 4830-01-P